DEPARTMENT OF THE INTERIOR

Bureau of Land Management

[WO640 1020 PF 24 1A]

Call for Nominations for Resource Advisory Councils

AGENCY: Bureau of Land Management, Interior.

ACTION: Notice of Resource Advisory Council call for nominations.

SUMMARY: The purpose of this notice is to request public nominations for the Bureau of Land Management (BLM) Resource Advisory Councils (RACs) that have member terms expiring this year. The RACs provide advice and recommendations to BLM on land use planning and management of the public lands within their geographic areas. BLM will consider public nominations for 45 days after the publication date of this notice.

DATES: Send all nominations to the appropriate BLM State Office by no later than April 18, 2005.

ADDRESSES: See SUPPLEMENTARY INFORMATION for the locations to send your nominations.

FOR FURTHER INFORMATION CONTACT: Melanie Wilson Gore, U.S. Department of the Interior, Bureau of Land Management, Intergovernmental Affairs, 1849 C Street, MS-LS-406, Washington, DC 20240; 202-452-0377.

SUPPLEMENTARY INFORMATION: The Federal Land Policy and Management Act (FLPMA) (43 U.S.C. 1730) directs the Secretary of the Interior to involve the public in planning and issues related to management of lands administered by BLM. Section 309 of FLPMA directs the Secretary to select 10 to 15 member citizen-based advisory councils that are consistent with the requirements of Federal Advisory Committee Act (FACA). As required by the FACA, RAC membership must be balanced and representative of the various interests concerned with the management of the public lands. The rules governing RACs are found at 43 CFR 1784.b. These include three categories:

Category One—Holders of federal grazing permits and representatives of energy and mineral development, timber industry, transportation or rights-of-way, off-highway vehicle use, and commercial recreation;

Category Two—Representatives of nationally or regionally recognized environmental organizations, archaeological and historic interests, dispersed recreation, and wild horse and burro groups;

Category Three—Holders of State, county or local elected office, employees of a State agency responsible for management of natural resources, academicians involved in natural sciences, representatives of Indian tribes, and the public-at-large.

Individuals may nominate themselves or others. Nominees must be residents of the State or States in which the RAC has jurisdiction. BLM will evaluate nominees based on their education, training, and experience and their knowledge of the geographical area of the RAC. Nominees should demonstrate a commitment to collaborative resource decisionmaking. The following must accompany all nominations:

—Letters of reference from represented interests or organizations,

—A completed background information nomination form,

—Any other information that speaks to the nominee's qualifications.

Simultaneous with this notice, BLM State Offices will issue press releases providing additional information for submitting nominations, with specifics about the number and categories of member positions available for each RAC in the State. Nominations for RACs should be sent to the appropriate BLM offices listed below.

Alaska

Alaska RAC

Danielle Allen, Alaska State Office, BLM, 222 West 7th Avenue, #13, Anchorage, Alaska 99513, (907) 271-3335.

Arizona

Arizona RAC

Deborah Stevens, Arizona State Office, BLM, 222 N. Central Avenue, Phoenix, Arizona 85004-2203, (602) 417-9215.

California

Central California RAC

Deane Swickard, Folsom Field Office, BLM, 63 Natoma Street, Folsom, California 95630, (916) 985-4474.

Northeastern California RAC

Jeff Fontana, Eagle Lake Field Office, BLM, 2950 Riverside Drive, Susanville, California 96130, (530) 257-0456.

Northwestern California RAC

Jeff Fontana, Eagle Lake Field Office, BLM, 2950 Riverside Drive, Susanville, California 96130, (530) 257-0456.

Colorado

Front Range RAC

Ken Smith, Canon City Field Office, BLM, 3170 E. Main Street, Canon City, Colorado 81212, (719) 269-8553.

Northwest RAC

Melodie Lloyd, Western Slope Center, BLM, 2815 H Road, Grand Junction, Colorado 81506, (970) 244-3097.

Southwest RAC

Melodie Lloyd, Western Slope Center, BLM, 2815 H Road, Grand Junction, Colorado 81506, (970) 244-3097.

Idaho

Coeur d'Alene District RAC

Stephanie Snook, Coeur d'Alene District Office, BLM 1808 North Third Street, Coeur d'Alene, Idaho 83814-3407, (208) 769-5004.

Idaho Falls District RAC

David Howell, Idaho Falls District Office, BLM 1405 Hollipark Drive, Idaho Falls, Idaho 83401, (208) 524-7559.

Boise District RAC

MJ Byrne, Boise District Office, BLM, 3948 Development Avenue, Boise, Idaho 83705, (208) 384-3393.

Twin Falls District RAC

Sky Buffat, Twin Falls District Office, BLM, 378 Falls Avenue, Twin Falls, Idaho 83301, (208) 732-7307.

Montana and Dakotas

Eastern Montana RAC

Mary Apple, Montana State Office, BLM, 5001 Southgate Drive, Billings, Montana 59107-6800, (406) 896-5258.

Central Montana RAC

Kaylene Patten, Lewistown Field Office, BLM, Airport Road, P.O. Box 1160, Lewistown, Montana 59457, (406) 538-1957.

Western Montana RAC

Marilyn Krause, Butte Field Office, BLM, 106 North Parkmont, Butte, Montana 59701-3388, (406) 533-7617.

Dakotas RAC

Mary Ramsey, North Dakota Field Office, BLM, 2933 Third Avenue West, Dickinson, North Dakota 58601-2619, (701) 227-7700.

Nevada

Mojave-Southern RAC; Northeastern Great Basin RAC; Sierra Front Northwestern RAC

Debra Kolkman, Nevada State Office, BLM, 1340 Financial Boulevard, Reno, Nevada 89502-7147, (775) 289-1946.

New Mexico

New Mexico RAC

Theresa Herrera, New Mexico State Office, BLM, 1474 Rodeo Road, Santa Fe, New Mexico 87505, (505) 438-7517.

Oregon/Washington

Eastern Washington RAC; John Day/Snake RAC; Southeast Oregon RAC

Pam Robbins, Oregon State Office, BLM, 333 SW First Avenue, P.O. Box 2965, Portland, OR 97208-2965, (503) 808-6306.

Utah

Utah RAC

Sherry Foot, Utah State Office, BLM, 324 South State Street, Suite 301, P.O. Box 45155, Salt Lake City, Utah 84145-0155, (801) 539-4195.

Dated: February 22, 2005.
Kathleen Clarke,
Director, Bureau of Land Management.

[FR Doc. 05-4260 Filed 3-3-05; 8:45 am]

BILLING CODE 4310-84-P